DEPARTMENT OF COMMERCE

International Trade Administration

[Application No. 25-00001]

Export Trade Certificate of Review

ACTION: Notice of application for an Export Trade Certificate of Review for Insiglobex LLC, Application No. 25-00001.

SUMMARY: The Secretary of Commerce, through the Office of Trade and Economic Analysis (OTEA) of the International Trade Administration, has received an application for an Export Trade Certificate of Review (Certificate). This notice summarizes the proposed application and seeks public comments on whether the Certificate should be issued.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to ETCA@trade.gov. An original and two (2) copies should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 25-00001.”

Summary of the Application

Applicant: Insiglobex LLC, 224 W 35th Street, Suite 500 #258, New York, NY, 10001.

Contact: Azim S. Aziz-Uribe, Owner at Insiglobex LLC.

Application No.: 25-00001.

Date Deemed Submitted: April 14th, 2025.

Insiglobex LLC seeks a Certificate to engage in the export conduct described below:

Applicant/Certificate Holder

• Insiglobex LLC.

Proposed Members (“Members”)

• None.

Export Trade

Products: All products.

Services: All services related to the export of Products.

Technology Rights: Technology rights, including, but not limited to, patents, trademarks, copyrights, and trade secrets, that relate to Products and Services.

Export Trade Facilitation Services (as They Relate to the Export of Products): Export Trade Facilitation Services include, but are not limited to:

• Professional services in the areas of government relations and assistance with state and federal programs.

• Foreign trade and business protocol consulting.

• Market research and analysis for international trade opportunities.

• Marketing, advertising, and negotiations related to the sale and distribution of exported goods and services.

• Joint ventures and strategic partnerships for international trade.

• Shipping, logistics, and export management services.

• Export licensing, documentation, and compliance services for U.S. and foreign regulations.

• Customs compliance, insurance, and financing solutions for exporters.

• Trade show exhibitions, organizational development, and training for global business expansion.

• Management and labor strategies for international operations.

• Technology transfer and intellectual property commercialization.

• Transportation and facilitating the formation of shippers' associations for cost-effective global trade.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operations

To engage in Export Trade in the Export Markets, Insiglobex LLC may:

• Provide and/or arrange for the provision of Export Trade Facilitation Services for suppliers and clients in the Export Markets.

• Engage in promotional and marketing activities and collect information on trade opportunities in the Export Markets, then distribute such information to clients.

• Enter into exclusive and/or non-exclusive licensing and/or sales agreements with Suppliers for the export of Products, Services, and/or Technology Rights to Export Markets.

• Enter into exclusive and/or non-exclusive agreements with distributors and/or sales representatives in Export Markets to facilitate international trade.

• Allocate export sales or divide Export Markets among Suppliers for the sale and/or licensing of Products, Services, and/or Technology Rights, subject to applicable trade laws.

• Allocate export orders among Suppliers to improve efficiency and ensure fulfillment of international trade agreements.

• Establish the price of Products, Services, and/or Technology Rights for sales and/or licensing in Export Markets, including volume-based pricing structures.

• Negotiate, enter into, and/or manage licensing agreements for the export of Technology Rights, ensuring compliance with intellectual property laws.

• Enter into contracts for shipping, logistics, and supply chain coordination to streamline export operations.

Insiglobex LLC and individual Suppliers may regularly exchange information on a one-on-one basis regarding:

• Supplier inventories, near-term production schedules, and order availability.

• Export demand forecasts to ensure effective coordination with distributors in Export Markets.

Dated: April 23, 2025.
Amanda Reynolds,
Acting Director, Office of Trade and Economic Analysis, International Trade Administration, U.S. Department of Commerce.

[FR Doc. 2025-07252 Filed 4-25-25; 8:45 am]

BILLING CODE 3510-DR-P